TENNESSEE VALLEY AUTHORITY

Sunshine Act Meeting

Agency Holding the Meeting: Tennessee Valley Authority (Meeting No. 1543).

Time and Date: 9 a.m. (EST), January 14, 2003, TVA West Tower Auditorium, 400 West Summit Hill Drive, Knoxville, Tennessee.

Status: Open.

Agenda

Approval of minutes of meeting held on November 20, 2002.

New Business

C—Energy

C1. Supplement to Contract No. 99999075 with Bechtel Power Corporation for installation of replacement steam generators for Sequoyah Nuclear Plant Unit 1 and Watts Bar Nuclear Plant Unit 1.

C2. Extension of Voith Siemens Hydro Power Generation Partnering Agreement—Contract No. 1752.

E—Real Property Transactions

E1. Sale or noncommercial, nonexclusive permanent easements for construction and maintenance of recreational water-use facilities, affecting approximately .18 acre of Tellico Reservoir shoreline in Monroe County, Tennessee, Tract Nos. XTELR-234RE and XTELR-235RE.

E2. Sale of a 19-year commercial recreation lease, affecting approximately 79 acres of land on Watts Bar Reservoir in Roane County, Tennessee, Tract No. XWBR-714L.

E3. Deed modification to remove the right to re-enter and take possession, affecting approximately 5 acres of land on Chickamauga Reservoir in Hamilton County, Tennessee, Tract No. XCR-444, S.7X.

E4. Deed modification to allow placement of fill and construction of a residence, affecting .3 acre of former TVA land on Wheeler Reservoir in Limestone County, Alabama, Tract No. XWR222, S.4X.

E5. Grant of a permanent easement for a existing pump station and sewer line expansion of Stevenson Utility Board, affecting approximately 2.8 acres of land on Guntersville Reservoir in Jackson County, Alabama, Tract No. XTGR-171S.

F—Other

F1. Approval to file condemnation cases to acquire transmission line easements and rights-of-way affecting Tract Nos. BBG-8, -9, -12, -13, and -22, Batesville-Blue Goose Transmission Line, Panola County, Mississippi; Tract No. SBFP-93, Sebastopol Switching Station-Five Points, Scott County, Mississippi; and Tract Nos. SWM-31, --32, -33, -35, and -75, Sweetwater-Madisonville Transmission Line, Monroe County, Tennessee; and right to enter affecting tract No. 2WCJR-1001TE, Waynesville-Clifton City Transmission Line, Wayne County, Tennessee.

Information Items

1. Approval of a supplement to the contract with Numanco, LLC, for professional staffing services related to the Browns Ferry Nuclear Plant Unit 1 recovery effort and the replacement of steam generators at the Watts Bar and Sequoyah Nuclear Plants.

2. Approval of a supplement to the contract with General Electric Company to cover nuclear steam supply and turbine-generator services and material for the Browns Ferry Nuclear Plant Unit 1 recovery effort.

3. Approval of the abandonment of a portion of the Great Falls-Sparta Transmission Line tap to West Sparta easement affecting approximately 5.1 acres (Tract No. SPAT-7) in exchange for transmission line easement rights affecting approximately 6 acres (Tract No. SPATR-1) in White County, Tennessee.

4. Approval of public auction sale of the former Eastern Area Radiological Laboratory site, affecting approximately 16.8 acres of Tellico Reservoir land in Monroe County, Tennessee, Tract No. XTELR-233.

5. Approval for interconnection arrangements with independent power producers (IPPs) and policy changes on credits IPPs may apply to TVA's transmission service charges.

6. Approval of Fiscal Year 2002 Winning Performance Incentive Plan Payout.

7. Approval of the Discount Energy Unit program and modification of the distributor loan program.

8. Approval of amendments to the Rules and Regulations of the TVA Retirement System and to the provisions of the TVA Savings and Deferral Retirement Plan (401(k) Plan) to comply with the IRS requirements concerning the definition of employee compensation upon which pension benefits and 401(k) Plan matching contribution can be calculated.

9. Approval of recommendations resulting from the 67th Annual Wage Conference concerning wage rates for annual employees represented by the International Brotherhood of Teamsters for 2003-2005.

10. Approval of recommendations resulting from the 67th Annual Wage Conference concerning Construction Project Agreement (Hourly) wage rates for 2003 for trades and labor work performed by contractors of TVA.

11. Approval of recommendations resulting from the 67th Annual Wage Conference concerning wage rates for annual employees represented by the Trades and Labor Council for 2003.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: January 7, 2003.
Maureen H. Dunn,
General Counsel and Secretary.

[FR Doc. 03-644 Filed 1-8-03; 2:09 pm]

BILLING CODE 8120-08-M